FEDERAL MARITIME COMMISSION

Ocean Transportation Intermediary License Applicants

Pursuant to the Commission's direct rule (79 FR 56522, September 22, 2014), beginning October 20, 2014, these notices will no longer be posted in the Federal Register. After October 20, 2014, this information will be available on the Commission's Web site at http://www.fmc.gov, see OTI Licensing Updates.

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

ADP Logistics Corp. (NVO & OFF), 200 W. Devon Avenue, Suite 4, Bensenville, IL 60106, Officers: Yiwei (Cathy) Huang, Associated Vice President (QI), Yusheng Lao, Director, Application Type: QI Change.

A-Las Freight & Cargo Group, LLC (NVO & OFF), 1235 NW 93 Court, Doral, FL 33172, Officers: Pedro Pinero, Managing Member (QI), Maria E. Vivas, Member, Application Type: New NVO & OFF License.

Aragon Systems, L.L.C. (OFF), 8501B East Adamo Drive, Suite B, Tampa, FL 33619, Officers: Elad Nagli, Operation Manager (QI), Joseph Shpats, Pricing and Routing Manager, Application Type: New OFF License.

Caesar International Logistics (LAX) Co. Ltd. (NVO), 1661 Hanover Road, Suite 205, City of Industry, CA 91748, Officers: Junwen (Jason) Li, Vice President (QI), Ping Zhang, President, Application Type: New NVO License.

Consolidated Shipping Agencies Ltd. (NVO & OFF), 2570 Beverly Drive, Suite 112, Aurora, IL 60502, Officers: Macdonald C. Vasnani, President (QI), Linda Vasnani, Treasurer, Application Type: Add Trade Name Conship.

CP Logistics Inc (NVO & OFF), 14019 SW Freeway, Suite #310-619, Sugar Land, TX 77478-3551, Officers: Casey X. Chen, President (QI), Emily M. Pan, Vice President, Application Type: New NVO & OFF License.

G I T Global Services LLC (NVO), 1802 W. Grant Road, Suite 110, Tucson, AZ 85745, Officers: Flavio Carrillo, Member (QI), Doreen Carrillo, Member, Application Type: New NVO License.

Global Leader, Inc. (NVO & OFF), 2100 Busse Road, Elk Grove Village, IL 60007, Officers: Hosoo Han, President (QI), James S. Park, Secretary, Application Type: New NVO & OFF License.

Guzal Cargo Express Corp (NVO), 5561 NW 72nd Avenue, Miami, FL 33166, Officer: Hernan D. Hoyos, President (QI), Application Type: New NVO License.

Hanjin Logistics, Inc. (NVO & OFF), 105 Challenger Road, Suite 902, Ridgefield Park, NJ 07660, Officers: June S. Hong, Treasurer (QI), Jin K. Park, President, Application Type: QI Change.

Headwin International Logistics LLC (NVO & OFF), 756 Port America Place, Suite 815, Grapevine, TX 76051, Officer: Raymond Counter, Manager Member (QI), Application Type: New NVO & OFF License.

KFS, Inc. dba Global International (NVO & OFF), 186 Intermodal Parkway, Fort Worth, TX 76177, Officers: Steven McDaniel, Senior Vice President (QI), Bruce Galbraith, CEO, Application Type: QI Change.

Lacs Cargo, Inc. (NVO & OFF), 8435 NW 74th Street, Miami, FL 33166, Officers: Javier Leano, Vice President (QI), Ana Maria Leano, President, Application Type: New NVO & OFF License.

Logistica Global, L.L.C. (NVO & OFF), 1551 NW 82nd Avenue, Doral, FL 33126, Officers: Rene A. Valle, Manager Member (QI), Julio C. Orellana, Manager Member, Application Type: New NVO & OFF License.

Logistics Trader Limited (NVO), Flat 5 Downham Court, Long Lodge Drive, Walton on Thames, Surrey, KT 123BZ, UK, Officers: Gary F. Stiegler, Secretary (QI), Mimoun Bouazani, President, Application Type: QI Change.

Navicon Unlimited, LLC (NVO & OFF), 8550 NW 17th Street, Suite 110A, Doral, FL 33126, Officers: Alicia Del Rey, Vice President (QI), Gustavo Zanzottera, President, Application Type: QI Change.

Starbase Global Logistics, Inc. (NVO & OFF), 330 Shipyard Blvd. Wilmington, NC 28412, Officers: William (Billy) C. Wells, Jr., Vice President (QI), Dave Mays, President, Application Type: Name change to Landmark Trade Services USA, Inc.

Thomas Griffin International, Inc. dba Sea Lion Ocean Freight dba RV Shipping (NVO & OFF), 15903 Kent Court, Tampa, FL 33647, Officers: Thomas Griffin, Director (QI), Matthew Pickering, Director, Application Type: Transfer to RV Shipping LLC.

Vidorra LLC (OFF), 8215 SW Tualatin-Sherwood Road, Suite 201, Tualatin, OR 97062, Officers: Luke T. Juarez, Member (QI), Jerry T. Juarez, Member, Application Type: New OFF License.

Dated: October 16, 2014.
By the Commission.
Karen V. Gregory,
Secretary.

[FR Doc. 2014-25123 Filed 10-21-14; 8:45 am]

BILLING CODE 6730-01-P